DEPARTMENT OF THE INTERIOR

Bureau of Land Management

[WY-090-08-1610-DQ]

Notice of Availability of the Kemmerer Proposed Resource Management Plan and Final Environmental Impact Statement, Wyoming

AGENCY: Bureau of Land Management, Interior.

ACTION: Notice of availability.

SUMMARY: In accordance with the National Environmental Policy Act of 1969 and the Federal Land Policy and Management Act of 1976, the Bureau of Land Management (BLM) with its cooperating agencies has prepared a Proposed Resource Management Plan/Final Environmental Impact Statement (PRMP/FEIS) for the Kemmerer Field Office planning area.

DATES: BLM planning regulations (43 CFR 1610.5-2) state that any person who meets the conditions as described in the regulations may protest the BLM's Proposed RMP. A person who meets the conditions and files a protest must file the protest within 30 days of the date that the Environmental Protection Agency publishes its notice of availability in the Federal Register.

ADDRESSES: Copies of the Kemmerer PRMP/FEIS have been sent to affected Federal, State, and local government agencies and to interested parties. Copies of the PRMP/FEIS are available for public inspection at the following locations:

Bureau of Land Management, Wyoming State Office, 5353 Yellowstone Road, Cheyenne, Wyoming 82009

Bureau of Land Management, Kemmerer Field Office, 312 HWY 189 N, Kemmerer, Wyoming 83101

Interested persons may also review the PRMP/FEIS on the Internet at http://www.blm.gov.rmp/kemmerer. All protests must be in writing and mailed to one of the following addresses:

Regular Mail: Director (210), Attention: Brenda Williams, P.O. Box 66538, Washington, DC 20036.

Overnight Mail: Director (210), Attention: Brenda Williams, 1620 L Street, NW., Suite 1075, Washington, DC 20035.

FOR FURTHER INFORMATION CONTACT: Michele Easley, RMP Team Leader, BLM Kemmerer Field Office, 312 HWY 189 N, Kemmerer, Wyoming 83101; telephone—(307) 828-4524; e-mail Kemmerer_wymail@blm.gov with “Kemmerer RMP” in the subject line.

SUPPLEMENTARY INFORMATION: The Kemmerer Field Office planning area is located in Lincoln, Uinta, and Sweetwater Counties, Wyoming. It includes approximately 1.4 million acres of public land surface and 1.6 million acres of Federal mineral estate administered by the BLM.

The Draft RMP/EIS was made available for public review for a 90-day period on July 13, 2007. The Draft RMP/EIS described and analyzed four alternatives for the management of the public lands and resources, including the Federal mineral estate, administered by the BLM Kemmerer Field Office:

Alternative A: (No Action): Continuation of the current management goals, objectives, and direction specified in the Kemmerer RMP and ROD (1986).

Alternative B: Provide a high level of environmental protection for wildlife habitat and other resource values, while allowing the production of resource commodities.

Alternative C: Maximize the production of resource commodities while providing an adequate level of environmental protection for other resources.

Alternative D: (BLM's Preferred Alternative): Optimize the mix of resource outputs, including production of resource commodities and wildlife habitat, while providing enhancement of environmental protection for all resources.

The key issues addressed by the alternatives are: (1) Development of domestic energy sources, including wind power; (2) off highway vehicle/snowmobile use and outdoor recreation; (3) National Historic Trails and cultural resources management; (4) management of wildlife habitat, including special status plant and animal species; (5) special management designations; and (6) travel management planning.

The Draft RMP/EIS included analysis of nine new areas proposed for consideration as Areas of Critical Environmental Concern (ACEC). The BLM found that these areas meet relevance and importance criteria as set forth in 43 CFR 1610.7-2, and the impacts of including these proposed ACECs were analyzed as part of the alternatives in the Draft RMP/EIS.

With Alternative D (BLM Preferred Alternative), the BLM proposes to establish the Bridger Butte ACEC (727 acres); Special status plant species ACEC (907 acres); and Cushion plant community ACEC (61 acres); and retain the Raymond Mountain ACEC (13,926 acres).

In addition, in Alternative D, the BLM analyzed the effects of opening 3,963 acres for consideration of future coal leasing. The proposed coal lease area is situated in T. 17 N., R. 117 W., Section 18, 20, 30, and 32; T. 16 N., R. 118 W., Section 2; 17 N., R. 118 W., Section 24.

Comments on the Draft RMP/EIS received from the public and internal BLM review were incorporated as appropriate into the proposed plan. After careful consideration of the comments received, adjustment and clarifications were made to Alternative D, BLM's Preferred Alternative. As modified, Alternative D is now presented as the Proposed Kemmerer RMP in the PRMP/FEIS. The Proposed Kemmerer RMP would provide comprehensive, long-range decisions for the use and management of resources in the planning area administered by the BLM and focus on the principles of multiple use and sustained yield.

Instructions for filing a protest with the Director of the BLM regarding the PRMP/FEIS may be found in the Dear Reader Letter of the Kemmerer PRMP/FEIS and at 43 CFR 1610.5-2. E-mailed and faxed protests will not be accepted as valid protests unless the protesting party also provides the original letter by either regular or overnight mail postmarked by the close of the protest period. Under these conditions, the BLM will consider the e-mailed or faxed protest as an advance copy and it will receive full consideration. If you wish to provide the BLM with such advance notification, please direct faxed protests to the attention of the BLM protest coordinator at 202-452-5112, and e-mails to Brenda_Hudgens-Williams@blm.gov. All protests, including the follow-up letter (if e-mailing or faxing) must be in writing and mailed to the appropriate address, as set forth in the ADDRESSES section above. Before including your address, phone number, e-mail address, or other personal identifying information in your protest, you should be aware that your entire protest—including your personal identifying information—may be made publicly available at any time. While you can ask us in your protest to withhold your personal identifying information from public review, we cannot guarantee that we will be able to do so.

Martin G. Griffith,
Acting State Director.

[FR Doc. E8-19387 Filed 8-21-08; 8:45 am]

BILLING CODE 4310-22-P